DEPARTMENT OF TRANSPORTATION

Federal Railroad Administration

Notice of Request for Proposals for Implementing a High-Speed Rail Corridor

AGENCY: Federal Railroad Administration (FRA), Department of Transportation (DOT).

ACTION: Notice of request for proposals.

SUMMARY: Section 11308 of the Fixing America's Surface Transportation (FAST) Act, Public Law 114-94 (December 4, 2015), requires the Secretary of Transportation (Secretary) to “issue a request for proposals for projects for the financing, design, construction, operation, and maintenance of a high-speed passenger rail system operating within a high-speed rail corridor.” To satisfy this requirement, the FRA is soliciting and encouraging the submission of proposals to finance, design, construct, operate, and maintain a high-speed rail (HSR) system. FRA will review the proposals within 90 days of their receipt and the Secretary may establish commissions to further review proposals that the Secretary determines warrant further consideration.

DATES: All proposals submitted in response to this notice shall be submitted by 5 p.m. ET on August 31, 2016, in accordance with the instructions in ADDRESSES below.

ADDRESSES: Any questions, responses or proposals in response to this notice shall be submitted under the docket number FRA-2016-0014 by any of the following methods:

• Federal eRulemaking Portal: http://www.regulations.gov. Follow the instructions for submitting comments.

• Mail: U.S. Department of Transportation, Docket Operations, M-30, West Building Ground Floor, Room W12-140, 1200 New Jersey Avenue SE., Washington, DC 20590.

Instructions: All submissions must include the agency name and docket number (FRA-2016-0014) for this Request for Proposals (RFP) process. Note that all comments received will be posted, without change, to http://www.regulations.gov, including any personal information. Please see the Privacy Act heading in the SUPPLEMENTARY INFORMATION section of this document for Privacy Act information related to any submitted comments or materials. Internet users may access comments received by DOT at http://www.regulations.gov.

If you wish to submit any information under a claim of confidentiality, submit a version from which you have deleted the claimed confidential business information to the docket as specified above and send two copies of your complete submission, including the information you claim to be confidential business information, following the steps outlined in “Requests for Confidential Treatment” in the SUPPLEMENTARY INFORMATION section of this document to Mr. Trevor Gibson as specified below.

FOR FURTHER INFORMATION CONTACT: For information from FRA, please contact Mr. Trevor Gibson, Office of Railroad Policy and Development, Federal Railroad Administration, 1200 New Jersey Avenue SE., MS-20/W36-411, Washington, DC 20590. Phone (202) 493-6371.

Table of Contents

1. Background on High-Speed Rail (HSR)

2. Background on This RFP

3. Previous Request for Expressions of Interest

4. Who May Respond

5. Performance Standards for HSR Systems

6. Corridor Definitions

7. Required Contents of Proposals

8. Optional Contents Requested for Inclusion in Proposals

9. Format for Submissions

10. Evaluation and Selection Process for Proposals

11. Freedom of Information Act Applicability

12. Requests for Confidential Treatment

1. Background on High-Speed Rail (HSR): HSR is self-guided intercity passenger ground transportation that is time competitive with air and/or auto on a door-to-door basis for trips in the approximate range of 100 to 500 miles. A corridor is a natural grouping of metropolitan areas and markets that, by their proximity and configuration, lend themselves to efficient service by HSR.

America's population is estimated to increase by 70 million people, or more than 20 percent, by 2045 (U.S. Department of Transportation, Beyond Traffic 2045: Trends and Choices, 2015). The majority of this growth will be concentrated in the Nation's growing megaregions—densely populated, metropolitan areas with interlocking economies and shared transportation, environmental, and cultural resources. To maintain economic competitiveness and quality-of-life, the U.S. must have an interconnected and balanced transportation network that maximizes the benefits of every mode. Rail transportation will play a critical role in accommodating this growth and provide an alternative to the Nation's increasingly congested airports and highways. This request for proposals to finance, design, construct, operate, and maintain high-speed rail corridors will set the stage for job creation, sustainable economic competitiveness, a more resilient infrastructure, and a lasting prosperity.

2. Background on this RFP Section 11308 of the FAST Act, Public Law 114-94 (December 4, 2015), requires the Secretary of Transportation to “issue a request for proposals for projects for the financing, design, construction, operation, and maintenance of a high-speed passenger rail system operating within a high-speed rail corridor.” Potential corridors include, but are not limited to, the following:

(A) Northeast Corridor;

(B) California Corridor;

(C) Pacific Northwest Corridor;

(D) South Central Corridor;

(E) Gulf Coast Corridor;

(F) Chicago Hub Network;

(G) Florida Corridor;

(H) Southeast Corridor;

(I) Keystone Corridor;

(J) Empire Corridor; and

(K) Northern New England Corridor.

The FAST Act prescribes that responses to this RFP will be considered by the Secretary and possibly by commissions representing affected and involved governors, mayors, freight railroads, transit authorities, labor organizations, and Amtrak. Based on the results of these reviews, proposals may be summarized in one or more reports to Congress, which will make recommendations for further action. FRA envisions this as the first phase of a qualification process that Congress may follow with more specific actions regarding particular proposals in one or more corridors.

However, no Federal funding is associated with this provision and, in the FAST Act, Congress prohibited any Federal agency from taking subsequent actions to further “implement, establish, facilitate, or otherwise act upon any proposals” submitted under this RFP—other than the actions described in this notice—without “explicit statutory authority” to be subsequently provided by Congress. Respondents to this RFP acknowledge, by virtue of their response, that the likelihood of future funding and implementation of the proposed projects covered by this notice is unknown, and that the Federal Government is not liable for any costs incurred preparing responses to this notice.

3. Previous Request for Expressions of Interest: Section 502 of the Passenger Rail Investment and Improvement Act of 2008, Public Law 110-432 (October 16, 2008), required a similar proposal process to the FAST Act provisions outlined in this notice. FRA published a request for expressions of interest in the Federal Register on December 16, 2008 (Vol. 73, No. 242, 76443-76448) requiring proposals to be submitted to FRA by September 14, 2009. The Secretary did not establish commissions to further consider any of the proposals submitted in 2009.

4. Who May Respond: Responses to this RFP are welcome from all sources. Section 11308 calls for comprehensive proposals that will address all the tasks necessary to implement HSR. Potential proposers are advised to verify, before committing resources to responding to this RFP, that they would be able to assemble a multi-disciplinary team that can plan, organize, finance, design, and construct a complete HSR system, as well as gain the support of the key public and private stakeholders, and successfully operate and maintain it on a long-term basis.

5. Performance Standards for HSR Systems: Section 11308 requires that the HSR proposals submitted in response to this RFP meet the following travel time performance standards:

(A) For the Northeast Corridor between New York and Washington: Proposed express service must link Pennsylvania Station, New York, with Union Station, Washington, with a reliable travel time of two hours; and

(B) For all other corridors with existing intercity passenger rail service, including the Northeast Corridor between New York and Boston: Existing minimum intercity rail scheduled service trip times (as shown in Amtrak's published timetable in effect on January 11, 2016) between endpoints and all other main corridor city-pairs must be reduced by a minimum of 25 percent, and reliable service provided. If no service presently exists in the proposed corridor, the respondent will need to demonstrate that the proposed service will be reliable and time competitive with other modes of transportation in the corridor.

6. Corridor Definitions: Section 11308 identifies eleven potential high speed rail corridors but does not limit proposals to these corridors. The corridors listed in Section 11308 are defined as follows:

(A) “Northeast Corridor” between Washington, DC, Baltimore, MD, Wilmington, DE, Philadelphia, PA, Trenton, NJ, New York, NY, New Haven, CT, Providence, RI, and Boston, MA. Separate service standards apply north and south of New York City, see Performance Standards for HSR Systems, above;

(B) “California Corridor” connecting and between the San Francisco Bay Area, Sacramento, Los Angeles, and San Diego, CA;

(C) “Pacific Northwest Corridor” between Eugene and Portland, OR, Seattle, WA, and Vancouver, BC, Canada;

(D) “South Central Corridor” along three branches between Dallas/Fort Worth, TX and:

(1) Austin and San Antonio, TX;

(2) Oklahoma City and Tulsa, OK; and

(3) Texarkana and Little Rock, AR;

(E) “Gulf Coast Corridor” along three branches between New Orleans, LA and:

(1) Birmingham, AL and Atlanta, GA;

(2) Houston, TX; and

(3) Mobile, AL;

(F) “Chicago Hub Network” along six routes between:

(1) Chicago, IL, Milwaukee, WI and Minneapolis-St. Paul, MN;

(2) Chicago, IL and Detroit, MI;

(3) Chicago, IL, Toledo and Cleveland, OH;

(4) Chicago, IL, Indianapolis, IN, and both Cincinnati, OH and Louisville, KY;

(5) Chicago, IL, St. Louis, MO and Kansas City, MO; and

(6) The transversal extension between Cleveland, Columbus, and Cincinnati, OH;

(G) “Florida Corridor” between Miami, Orlando, and the Tampa Bay region, FL;

(H) “Southeast Corridor” along three branches between:

(1) Washington, DC, Richmond, VA, Raleigh, Greensboro and Charlotte, NC, Greenville, SC and Atlanta, GA;

(2) Raleigh, NC, Columbia, SC, Savannah, GA, Jacksonville, FL; and

(3) Atlanta, Macon, and Jesup, GA, thence either or both Savannah, GA and Jacksonville FL;

(I) “Keystone Corridor” between Philadelphia, Harrisburg, and Pittsburgh, PA, over the route of the former Pennsylvania Railroad;

(J) “Empire Corridor” between New York City, Albany and Buffalo, NY, over the route of the former New York Central Railroad; and

(K) “Northern New England Corridor” along three branches between Boston, MA and:

(1) Portland/Lewiston-Auburn, ME;

(2) Concord, NH, Montpelier, VT, Montreal, QE, Canada; and

(3) Springfield, MA and to both New Haven, CT and Albany, NY; and

7. Required Contents of Proposals: Proposals in response to this RFP must include the following:

(A) The name(s) and qualifications of the person(s) submitting the proposal, and the names and qualifications of the lead entity and each member/entity of the team proposed to finance, design, construct, operate, and maintain the railroad, railroad equipment, and related facilities, stations, and infrastructure. Describe how such entities would be related to the lead entity;

(B) An executive summary, not to exceed 3 pages, of the proposed project concept, including:

(1) Markets served, including a concept map;

(2) Station locations;

(3) Trip times for major markets indicating that program performance standards will be met;

(4) Peak and average operating speeds of the train service;

(5) Proposed routes and alignments, noting the extent of new rights-of-way (ROW) and use of existing ROW, as well as a general discussion of how the intended reliability requirements will be achieved;

(6) Type of train equipment to be used, the maximum speed of that equipment, and any technologies used to meet trip time goals;

(7) Proposed organizational structure;

(8) Salient features of the intended operation as they may affect operating practices and unit costs;

(9) Total capital cost and expected contributions by Federal, state, and other public and private sources;

(C) The benefits to the public and the national transportation system, including an explanation of why the project is cost-effective and what advantages it offers over existing services. Provide a detailed technical description of the proposed project, including:

(1) Populations of markets served by each of the proposed stations;

(2) Existing intercity traffic (passengers, vehicle capacity, frequency) by mode;

(3) Proposed station locations and, for each, whether it is existing or new, and how it maximizes the use of existing infrastructure;

(4) How the project will facilitate convenient intermodal travel connections with other transportation services and systems;

(5) Trip time and fare comparisons among proposed services, existing rail services, if any, and competing modes for major city pairs;

(6) An operating plan with train service frequency, timetable, and information on intermodal connections;

(7) Annual ridership and revenue projections for 10 years with documentation of assumptions and methods;

(8) Operating costs with documentation of assumptions and methods;

(9) The impact of the project on highway and aviation congestion, energy consumption, pollutant emissions, land use and economic development;

(10) A description of how the design, construction, implementation, and operation of the proposed project will accommodate and allow for future growth of existing and projected intercity, commuter, and freight rail service;

(11) The impact of the proposed project on other intercity, commuter, and freight rail services;

(12) Proposed routes and alignments noting the extent of new ROW and use of existing ROW;

(13) Required infrastructure investments and improvements, including the feasibility of building new track and method for securing required ROW;

(14) How adverse impacts of the proposed project would be mitigated;

(15) The type and quantity of train equipment to be used, with technical specifications, such as consist, maximum speed, passenger capacity, energy consumption profile, acceleration and deceleration rates;

(16) Project capital costs for major categories of expenditures (track structures, tunnels, bridges, vehicles, stations, maintenance equipment and facilities, communication and control systems, and power systems), with documentation of assumptions and methods;

(17) How the proposed project would contribute to the development of a national HSR system;

(18) A detailed analysis of the methods and technologies for achieving the required reductions in trip times and the intended reliability standards; and

(19) Synopses and references for any past high-speed rail studies deemed relevant.

(D) Present a detailed financial plan for the proposed project, including:

(1) Projected annual operating revenues by year and sources;

(2) Estimates of annual operating costs by type of expenditure;

(3) Annual schedule of capital costs required both initially and in subsequent years to maintain a state-of-good-repair and to recapitalize as necessary to sustain the initially proposed level of service or higher levels of service;

(4) Sources and descriptions of capital funds, including terms, conditions and expectation for return on equity;

(5) Credit assumptions including sources, guarantees, terms, maturity and special conditions;

(6) A description of the insurance program contemplated for construction and operation;

(7) A description of construction cost risk sharing and rationale for the proposed approach;

(8) A description of revenue and operating cost risk sharing and rationale for the proposed approach;

(9) Projected levels of private investment and sources thereof, including the identity of any person or entity that has made or is expected to make a commitment to provide or secure funding and the amount of such commitment;

(10) Projected funding for the full fair market compensation for any asset, property right or interest, or service acquired from, owned, or held by a private person or Federal entity that would be acquired, impaired, or diminished in value as a result of a project, except as otherwise agreed to by the private person or entity; and

(11) A projected financial statement for the proposed organization showing annual revenues, costs, investments, and debt service from project inception through construction, testing, and the first 20 years of operation;

(E) Describe the institutional framework and address other institutional issues, including:

(1) A project structure organization chart showing the proposer team and all the relationships among the public and private entities involved in the proposed project, a description of the relationships among the entities responsible for the financing, design, construction, operation and maintenance of the proposed project (including their equity stakes), and the roles of other participants in the operational aspects of the proposed project;

(2) Any new entities required to be created and how they will be structured legally and financially;

(3) Integration of the proposed service with Amtrak, other HSR rail services, other intercity passenger systems, and local access/egress systems;

(4) The feasibility of gaining access to required ROW, the approach to track capacity including building new track, and any public and private agreements for facility access and the expected costs of each;

(5) Required governmental actions and approvals and the role of the state government(s) in implementing the proposal; and

(6) The relationship to state rail plans and programs or, if not already part of such plans or programs, a statement describing plans for integration into them;

(F) Identify legislative actions needed, if any, to facilitate all aspects of the proposed project, including:

(1) Required Federal, state, and/or local legislation to authorize and create a sponsoring entity for the proposed project, or to remove legal impediments to project implementation, or otherwise facilitate the proposed project;

(2) Required public funding commitments, Federal, state, and/or local; and

(3) Required to allow the project to benefit from government-sponsored credit assistance programs, such as the Railroad Rehabilitation and Improvement Financing program (45 U.S.C. 821 et seq.) and the Transportation Infrastructure Finance and Innovation Act program (23 U.S.C. 601 et seq.); and

(G) Describe how the proposed project will be implemented to comply with Federal, state and local laws, including but not limited to:

(1) Laws governing the rights and status of employees associated with the route and service, including those specified in Section 24405 of title 49 United States Code;

(2) Buy America, as specified in Section 24405 of title 49 United States Code;

(3) Rail safety and security laws, orders, and regulations governing HSR operations, including, but not limited to, the railroad safety provisions in Part 49 of the Code of Federal Regulations and the requirements of the FAST Act;

(4) Environmental laws and regulations and the status or any progress towards completion of required documentation or actions under the National Environmental Policy Act (42 U.S.C. 4321 et seq.), the National Historic Preservation Act (16 U.S.C. 470 et seq.), Section 4(f) of the DOT Act (23 U.S.C. 138 and 49 U.S.C. 303), or other applicable Federal or state environmental impact assessment laws; and

(5) The Americans with Disabilities Act, as amended.

8. Optional Contents Requested for Inclusion in Proposals: In addition to the required contents, respondents are requested to provide, at their option, their perspectives on what type of contracting and financing strategies are most likely to facilitate successful HSR projects. FRA is particularly interested in perspectives that draw on prior experience with HSR projects. In responding to this RFP, please consider addressing the following:

(A) What type of contracting structure is likely to provide the most effective allocation of the risk and responsibility for each element of the project (design, construction, financing, operation and maintenance) between the private and public sectors?

(B) Should all of the project elements to be performed by the private sector be procured in a single procurement or separately (for example, separate procurements for civil works, the provision of systems and equipment, and long-term operations and maintenance of the system)?

(C) Should the project's financing rely on commercial ticket fares and other revenue generated directly by the facility to pay for all or any portion of the project's cost, and should the private partner assume the risk that these revenues will be sufficient to repay all or any portion of the project's financing?

(D) What role should public sector commitments play in financing the project or particular components of the project, and what type of public commitment would be most effective?

(E) What measures or commitments would be needed, including possible legislation, to provide and facilitate multi-year Federal commitments of any Federal financing needed for the project?

(F) What role should private equity play in financing the project or particular components of the project and how would terms and conditions affect public sector participation?

(G) Are there any key considerations that will encourage or dissuade private sector involvement in the financing, design, construction, and long-term operations and maintenance of HSR corridors?

(H) Should the commissions required by Section 11308 of the FAST Act be organized and their work structured in the same way for all corridors, and what structures and models should be considered to guide the commissions?

9. Format for Submissions: Each proposal shall be submitted according to the instructions in ADDESSES above. Text and graphic documents shall be submitted as either Microsoft Word or Adobe PDF documents, in Times New Roman, 12 point font, with 1-inch margins. Spreadsheets containing financial information shall be submitted as Microsoft Excel (or compatible) or Adobe PDF documents.

Each proposal should not exceed a maximum total of 50 pages, excluding appendices. Proposals should be organized by the following sections: cover page, proposer name(s) and contact information, executive summary, detailed technical description, detailed financial plan, institutional information, legislative actions, legal compliance issues, and appendices containing any spreadsheets, drawings, and tables. Optional content should be provided as an additional section not included in the page count. The executive summary should not exceed three (3) pages in length.

10. Evaluation and Selection Process for Proposals: FRA will evaluate each proposal in a phased process. Proposals will first be screened for completeness in responding to this RFP. Following this initial screening for completeness, proposals will undergo a review and selection process as outlined below.

Selection Criteria: The proposals will be assessed on the extent to which each satisfies the following selection factors:

(1) The project detailed in the proposal demonstrates the ability to achieve the specified reduction in minimum intercity rail service trip times and the intended reliability standards;

(2) The project detailed in the proposal is sufficiently credible to warrant further consideration, including containing pledges of the requisite public or private funding or financing contemplated in the proposal. Respondents whose financial plans do not provide adequate assurances as to the availability of their intended funding and financing sources will not advance to the commission stage of the RFP process;

(3) The project detailed in the proposal is likely to result in a positive impact on the Nation's transportation system;

(4) The project detailed in the proposal is cost-effective; and

(5) The project detailed in the proposal is in the public interest.

Step 1—FRA Review Process: Upon close of the RFP solicitation, FRA will evaluate each proposal and determine if it is complete and if there is evidence provided in the proposal that supports the conclusions, based on the Selection Criteria.

Step 2—Sufficient Resource Certification Process: The FAST Act requires the Secretary to certify to Congress that DOT has sufficient resources to undertake the program before any action is taken. The Secretary has sent a letter to the Committee on Commerce, Science, and Transportation of the Senate, and the Committee on Transportation and Infrastructure of the House of Representatives providing a conditional certification stating that DOT has the resources to issue the RFP and review proposals. Once all the proposals have gone through the FRA Review Process, the Secretary can determine the financial and personnel resources needed for the remainder of the program. This in turn will allow the Secretary to issue a final certification on the sufficiency of resources at the Department, or specify the resources that are necessary to complete the program. While the FAST Act authorizes funds to support the subsequent commission review process, no funds have been appropriated for this provision as of the date of this RFP.

Step 3—Commission Review Process: If the Secretary determines that one or more proposals warrant further consideration and the Secretary issues a final certification on the sufficiency of resources to Congress, then the Secretary will establish a commission for each relevant corridor no later than 90 days after the receipt of the proposals. Commission members will include affected governors, mayors, freight railroads, transit authorities, and labor organizations, as well as Amtrak. The commission(s) will review the proposals forwarded by the Secretary and prepare a report to the Secretary making recommendations for further consideration.

Step 4—Secretary Selection Process: Within 60 days of receipt of each commission's evaluation and recommendations, the Secretary will consider the commission report(s) and select proposals that: (1) demonstrate a high likelihood of providing substantial benefits to the public and the national transportation system; (2) are cost-effective, considering public commitments necessary for implementation and operation; and (3) promise significant advantages over existing services operating in the same HSR corridor. The Secretary will then submit one or more reports to Congress on the selected proposals.

Until Congress issues follow-up actions for selected proposals, no Federal agency may take any action to implement, establish, facilitate, or otherwise act upon any proposal submitted under Section 11308, other than those actions specifically authorized by that Section.

11. Freedom of Information Act Applicability: Documents submitted to the agency pursuant to this notice become agency records subject to the public access provisions of the Freedom of Information Act (FOIA) (5 U.S.C. 552). FOIA generally provides that any person has a right, enforceable in court, to obtain access to Federal agency records, except to the extent that such records (or portions of them) are protected from public disclosure by one of nine exemptions or by one of three special law enforcement record exclusions. The Department of Transportation's regulations implementing the FOIA are found at 49 CFR part 7. See the discussion later in this notice about the treatment of trade secrets and commercial or financial information obtained from a person that is privileged or confidential.

12. Requests for Confidential Treatment: FRA recognizes that proposals submitted to the agency pursuant to this notice may contain certain information that is or should be exempt from public release, principally because the information constitutes trade secrets or commercial or financial information obtained from a person that is privileged or confidential as provided for in FOIA exemption 4 (5 U.S.C. 552(b)(4)). The term “trade secret” has been fairly narrowly defined as a “secret, commercially valuable plan, formula, process, or device that is used for the making, preparing, compounding, or processing of trade commodities and that can be said to be the end product of either innovation or substantial effort.” Public Citizen Health Research Group v. FDA, 704 F.2d 1280, 1288 (D.C. Cir. 1983). FRA expects that there should be very limited, if any, need to submit trade secret information in connection with this notice. Commercial or financial information obtained from a person that is privileged or confidential and thus exempt from release under FOIA exemption 4 typically involves information for which the release is likely to cause substantial harm to the competitive position of the person from whom the information was obtained. National Parks & Conservation Association v. Morton, 498 F.2d 765, 770 (D.C. Cir. 1974). This is a fairly restrictive standard and should serve to limit the volume of exempt material that might be submitted.

FRA also recognizes that the nature of the process established through Section 11308 of the FAST Act, with the potential involvement of a multi-member commission that could be charged with reviewing proposals submitted pursuant to this notice, could present significant challenges managing any confidential information is submitted. Thus, respondents are encouraged to carefully review the applicable standards governing what constitutes trade secrets or confidential commercial or financial information and to limit the submission of such information to that specifically needed to respond to this notice.

A request for confidential treatment with respect to a document or portion thereof may be made in accordance with instructions in ADDRESSES above on the basis that the information is— (1) Exempt from the mandatory disclosure requirements of FOIA (5 U.S.C. 552); (2) Required to be held in confidence by 18 U.S.C. 1905; or (3) Otherwise exempt by law from public disclosure. Any document containing information for which confidential treatment is requested shall be accompanied at the time of filing by a detailed statement justifying non-disclosure and referring to the specific legal authority claimed for confidentiality. Any document containing any information for which confidential treatment is requested shall be marked “CONFIDENTIAL” or “CONTAINS CONFIDENTIAL INFORMATION” in bold letters. If confidentiality is requested for the entire document, or if it is claimed that non-confidential information in the document is not reasonably segregable from confidential information, the accompanying statement of justification shall so indicate and include support with specific legal authority. If confidentiality is requested for a portion of the document, then the person filing the document shall file, together with the document, a second copy of the document with the information for which confidential treatment is requested redacted. If the person filing a document, of which only a portion is requested to be held in confidence, does not submit a second copy of the document with the confidential information deleted, FRA may assume that there is no objection to public disclosure of the document in its entirety. FRA retains the right to make its own determination with regard to any claim of confidentiality. Notice of a decision by the FRA to deny a claim of confidentiality, in whole or in part, and an opportunity to respond shall be given to a person claiming confidentiality of information no less than five days prior to its public disclosure. FRA intends to address protection of confidential information by any commission(s) formed to review submitted proposals through the commission formation process. Respondents are welcome to offer suggestions for managing confidential data along with their proposals.

Issued in Washington, DC, on March 9, 2016.
Sarah E. Feinberg,
Administrator.

[FR Doc. 2016-05866 Filed 3-15-16; 8:45 am]

BILLING CODE 4910-06-P